DEPARTMENT OF JUSTICE

[OMB Number 1110-0060]

Agency Information Collection Activities; Proposed eCollection eComments Requested; Extension of a Previously Approved Collection; CJIS Biographic Verification Request

AGENCY: Federal Bureau of Investigation, Department of Justice.

ACTION: 60-Day notice.

SUMMARY: The Federal Bureau of Investigation (FBI), Department of Justice (DOJ), will be submitting the following information collection request to the Office of Management and Budget (OMB) for review and approval in accordance with the Paperwork Reduction Act of 1995.

DATES: Comments are encouraged and will be accepted for 60 days until May 20, 2024.

FOR FURTHER INFORMATION CONTACT: If you have additional comments especially on the estimated public burden or associated response time, suggestions, or need a copy of the proposed information collection instrument with instructions or additional information, please contact Christopher G. Vandevender, Processing Manager, FBI, CJIS, Biometric Services Section, Biometric Identification and Analysis Unit, BTC-4, 1000 Custer Hollow Road, Clarksburg, WV, 26306, phone: 304-625-5789 or email: CJISBioVerify@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Title 28, Code of Federal Regulations (CFR), section 0.85(j) sets forth the Attorney General's delegation to the FBI to implement the exchange of identity history information for noncriminal justice purposes. Additionally, 28 CFR 20.33(a)(3) and 50.12 both further explain the dissemination of identity history information for noncriminal justice purposes. The FBI's Criminal Justice Information Services (CJIS) Division currently offers a Biographic Verification Service to noncriminal justice agencies as a way to obtain adjudicated criminal history information in cases where the required fingerprint image quality could not be achieved after two attempts for a fingerprint-based search. The service was implemented to ensure that individuals with poor quality fingerprints not be denied benefits, licensing, or employment opportunities due to non-discernible fingerprints. The information collected on the CJIS Biographic Verification Request form is required to ensure the agency requesting the service has the authority to request and obtain the results and to verify fingerprints were submitted and rejected twice for the individual of the request.

Overview of This Information Collection

1. Type of Information Collection: Extension of a previously approved collection.

2. The Title of the Form/Collection: CJIS Biographic Verification Request.

3. The agency form number, if any, and the applicable component of the Department sponsoring the collection: I-791; CJIS, FBI, DOJ.

4. Affected public who will be asked or required to respond, as well as the obligation to respond: The form is used when an authorized noncriminal justice agency requests that the CJIS Division complete a Biographic Verification. The obligation is strictly voluntary, and the frequency of submissions is not mandated; however, the form is required to obtain the benefit of the CJIS Biographic Verification Service.

5. An estimate of the total number of respondents and the amount of time estimated for an average respondent to respond: It is estimated that approximately 36,000 respondents will complete the CJIS Biographic Verification Request form in fiscal year 2024. It will take each respondent approximately two minutes to complete the form.

6. An estimate of the total annual burden (in hours) associated with the collection: The total annual burden hours for this collection is approximately 1,200 hours.

7. An estimate of the total annual cost burden associated with the collection, if applicable: $0.

Total Burden Hours
Activity | Number of respondents | Frequency | Total annual responses | Time per response (min) | Total annual burden (Hours)
Ex: Survey (individuals or households) | 36,000 | 1/annually | 36,000 | 2 | 1,200
Unduplicated Totals | 36,000 |  | 36,000 |  | 1,200

If additional information is required contact: Darwin Arceo, Department Clearance Officer, United States Department of Justice, Justice Management Division, Policy and Planning Staff, Two Constitution Square, 145 N Street NE, 4W-218, Washington, DC.

Dated: March 15, 2024.
Darwin Arceo,
Department Clearance Officer for PRA, U.S. Department of Justice.

[FR Doc. 2024-05891 Filed 3-19-24; 8:45 am]

BILLING CODE 4410-02-P